DEPARTMENT OF TRANSPORTATION

Federal Motor Carrier Safety Administration

[Docket No. FMCSA-2012-0338]

Qualification of Drivers; Exemption Applications; Vision

AGENCY: Federal Motor Carrier Safety Administration (FMCSA), DOT.

ACTION: Notice of applications for exemptions; request for comments.

SUMMARY: FMCSA announces receipt of applications from 9 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before January 16, 2013.

ADDRESSES: You may submit comments bearing the Federal Docket Management System (FDMS) Docket No. FMCSA-2012-0338 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 9 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Sava A. Andjelich

Mr. Andjelich, age 45, has had amblyopia in his right eye since childhood. The best corrected visual acuity in his right eye is 20/200, and in his left eye, 20/20. Following an examination in 2012, his optometrist noted, “In my professional opinion and based solely on my findings, Mr. Andjelich appears to have sufficient visual capacity to perform driving tasks involved with commercial vehicles.” Mr. Andjelich reported that he has driven straight trucks for 2 years, accumulating 60,000 miles, and tractor-trailer combinations for 23 years, accumulating 1.8 million miles. He holds an operator's license from Indiana. His driving record for the last 3 years shows no crashes and no convictions for moving violations in a CMV.

William Audinwood

Mr. Audinwood, 63, has had a corneal scar in his left eye due to a traumatic incident since childhood. The visual acuity in his right eye is 20/20, and in his left eye, 20/100. Following an examination in 2012, his optometrist noted, “In my opinion, William Audinwood does have sufficient visual fields to operate a commercial vehicle.” Mr. Audinwood reported that he has driven straight trucks for 36 years, accumulating 720,000 miles. He holds a Class B Commercial Driver's License (CDL) from New York. His driving record for the last 3 years shows no crashes and no convictions for moving violations in a CMV.

Keith E. Breeding

Mr. Breeding, 54, has had an arterial occlusion in his right eye since 2006. The best corrected visual acuity in his right eye is hand motion, and in his left eye, 20/20. Following an examination in 2012, his optometrist noted, “In my opinion, Mr. Breeding has sufficient vision to perform the driving tasks required to operate a commercial vehicle, but I assume no responsibility for his ability and the final decision is on your agency.” Mr. Breeding reported that he has driven straight trucks for 33 years, accumulating 18,150 miles, and tractor-trailer combinations for 26 years, accumulating 1.5 million miles. He holds a Class A CDL from Indiana. His driving record for the last 3 years shows no crashes and no convictions for moving violations in a CMV.

Manual Chancey

Mr. Chancey, 72, has had amblyopia in his right eye since childhood. The best corrected visual acuity in his right eye is 20/400, and in his left eye, 20/25. Following an examination in 2012, his optometrist noted, “His vision is sufficient enough to operate a commercial vehicle.” Mr. Chancey reported that he has driven tractor-trailer combinations for 25 years, accumulating 2 million miles. He holds a Class A CDL from Florida. His driving record for the last 3 years shows no crashes and no convictions for moving violations in a CMV.

David L. Ellis

Mr. Ellis, 31, has complete loss of vision in his right eye since 2007. The visual acuity in his left eye is 20/15. Following an examination in 2012, his ophthalmologist noted, “He, in my opinion, has sufficient vision to perform the required commercial driving tasks.” Mr. Ellis reported that he has driven tractor-trailer combinations for 7.5 years, accumulating 375,000 miles. He holds a Class A CDL from Texas. His driving record for the last 3 years shows no crashes and no convictions for moving violations in a CMV.

Jack A. Hemelgarn

Mr. Hemelgarn, 60, has a retinal detachment in his left eye due to a traumatic incident since 2008. The best corrected visual acuity in his right eye is 20/20, and in his left eye, 20/70. Following an examination in 2012, his optometrist noted, “In my opinion, from a vision stand point, he can safely perform the driving tasks required to operate a commercial motor vehicle.” Mr. Hemelgarn reported that he has driven buses for 22 years, accumulating 880,000 miles. He holds a Class B CDL from Minnesota. His driving record for the last 3 years shows no crashes and no convictions for moving violations in a CMV.

Bobby L. Rupe

Mr. Rupe, 58, has complete loss of vision in his left eye due to a traumatic incident since 1991. The best corrected visual acuity in his right eye is 20/20. Following an examination in 2012, his optometrist noted, “In my medical opinion Mr. Rupe has sufficient vision to perform the driving task required to, operate a commercial vehicle.” Mr. Rupe reported that he has driven tractor-trailer combinations for 34 years, accumulating 3.4 million miles. He holds a Class A CDL from Texas. His driving record for the last 3 years shows no crashes and no convictions for moving violations in a CMV.

Gary Wanek

Mr. Wanek, 49, has had a central retinal hole in his left eye since 1982. The best corrected visual acuity in his right eye is 20/20, and in his left eye, 20/200. Following an examination in 2012, his optometrist noted, “In my medical opinion, he has sufficient vision to perform the driving tasks required to operate a commercial vehicle.” Mr. Wanek reported that he has driven straight trucks for 25 years, accumulating 175,000 miles. He holds an operator's license from Nebraska. His driving record for the last 3 years shows no crashes and no convictions for moving violations in a CMV.

Richard A. Wilt

Mr. Wilt, 65, has had a macular scar in his right eye since birth. The best corrected visual acuity in his right eye is 20/400, and in his left eye, 20/20. Following an examination in 2012, his optometrist noted, “In my medical opinion, with Mr. Wilt's good visual acuity and normal peripheral visual fields, his vision is sufficient to perform the driving tasks required to operate a commercial vehicle.” Mr. Wilt reported that he has driven straight trucks for 20 years, accumulating 730,000 miles. He holds an operator's license from Ohio. His driving record for the last 3 years shows no crashes and no convictions for moving violations in a CMV.

Request for Comments

In accordance with 49 U.S.C. 31136(e) and 31315, FMCSA requests public comment from all interested persons on the exemption petitions described in this notice. The Agency will consider all comments received before the close of business January 16, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: November 28, 2012.
Larry W. Minor,
Associate Administrator for Policy.

[FR Doc. 2012-30294 Filed 12-14-12; 8:45 am]

BILLING CODE 4910-EX-P